DEPARTMENT OF HEALTH AND HUMAN SERVICES

Centers for Medicare & Medicaid Services

42 CFR Part 402

[CMS-6146-CN2; CMS-6019-CN]

RINs 0938-AM98; 0938-AN48

Medicare Program; Revised Civil Money Penalties, Assessments, Exclusions, and Related Appeals Procedures; Correction

AGENCY: Centers for Medicare & Medicaid Services (CMS), HHS.

ACTION: Correction of final rule.

SUMMARY: This document corrects a typographical error that appeared in the final rule published in the Federal Register on July 20, 2007 entitled “Medicare Program; Revised Civil Money Penalties, Assessments, Exclusions, and Related Appeals Procedures.”

DATES: Effective Date: August 20, 2007.

FOR FURTHER INFORMATION CONTACT: Joel Cohen, (410) 786-3349. Joe Strazzire, (410) 786-2775.

SUPPLEMENTARY INFORMATION:

I. Background

In FR Doc. E7-13535 of July 20, 2007 (72 FR 39746), there was a typographical error that is identified and corrected in the Correction of Errors section below. The provision in this correction notice is effective as if it had been included in the July 20, 2007 final rule. Accordingly, the correction is effective August 20, 2007.

II. Correction of Errors

In FR Doc. E7-13535 of July 20, 2007 (72 FR 39746), make the following correction:

§ 402.105 [Corrected]

1. On page 39752, in the 3rd column, in the 5th paragraph, the amendatory statement for § 402.105(d), the phrase “redesignate paragraph (d)(1)(xix) as paragraph (d)(1)(ix)” is corrected to read “redesignate paragraph (d)(2)(xix) as paragraph (d)(2)(ix).”

III. Waiver of Proposed Rulemaking

We ordinarily publish a notice of proposed rulemaking in the Federal Register to provide a period for public comment before the provisions of a notice such as this take effect in accordance with section 553(b) of the Administrative Procedure Act (APA) (5 U.S.C. 553(b)). We also ordinarily provide a 30-day delay in the effective date of the provisions of a notice in accordance with section 553(d) of the APA (5 U.S.C. 553(d)). However, we can waive both the notice and comment procedure and the 30-day delay in effective date if the Secretary finds, for good cause, that a notice and comment process is impracticable, unnecessary or contrary to the public interest, and incorporates a statement of the finding and the reasons therefore in the notice.

We find it unnecessary to undertake notice and comment rulemaking because this notice merely provides a typographical correction to the regulations. We are not making substantive changes to our regulations, but rather, are simply correcting a typographical error. Therefore, we believe that undertaking further notice and comment procedures to incorporate this correction into the final rule is unnecessary and contrary to the public interest.

Further, we believe a delayed effective date is unnecessary because this correction notice merely corrects a typographical error. The correction does not make any substantive changes to our regulations. Moreover, we regard imposing a delay in the effective date as being contrary to the public interest. Therefore, we find good cause to waive the 30-day delay in effective date.

(Catalog of Federal Domestic Assistance Program No. 93.773, Medicare—Hospital Insurance; and Program No. 93.774, Medicare—Supplementary Medical Insurance Program)

Dated: August 10, 2007.
Ann C. Agnew,
Executive Secretary to the Department.

[FR Doc. E7-16167 Filed 8-16-07; 8:45 am]

BILLING CODE 4120-01-P